DEPARTMENT OF THE INTERIOR

National Park Service

Notice of Inventory Completion for Native American Human Remains and Associated Funerary Objects in the Possession of the U.S. Department of Defense, National Museum of Health and Medicine, Armed Forces Institute of Pathology, Washington, DC

AGENCY: National Park Service, Interior.

ACTION: Notice.

Notice is hereby given in accordance with provisions of the Native American Graves Protection and Repatriation Act (NAGPRA), 43 CFR 10.9, of the completion of an inventory of human remains and associated funerary objects in the possession of the U.S. Department of Defense, National Museum of Health and Medicine, Armed Forces Institute of Pathology (formerly the Army Medical Museum), Washington, DC.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by National Museum of Health and Medicine, Armed Forces Institute of Pathology professional staff in consultation with representatives of the Tonkawa Tribe of Indians of Oklahoma.

In 1868, human remains representing one individual were collected near Fort Cobb in Washita River, Caddo County, OK, by Dr. Palmer of the Smithsonian Institution. In 1869, the remains were transferred to the National Museum of Health and Medicine, Armed Forces Institute of Pathology. No known individual was identified. No associated funerary objects are present.

A logbook entry from the Smithsonian Institution indicates that the remains are of a female Tonkawa Indian “massacred by Indian with tomahawk.” Biological evidence is consistent with the logbook entry. The Army Medical Museum accession records also indicate that the individual is a Tonkawa Indian.

Based on the above-mentioned information, officials of the National Museum of Health and Medicine, Armed Forces Institute of Pathology have determined that, pursuant to 43 CFR 10.2 (d)(1), the human remains listed above represent the physical remains of one individual of Native American ancestry. Officials of the National Museum of Health and Medicine, Armed Forces Institute of Pathology also have determined that, pursuant to 43 CFR 10.2 (e), there is a relationship of shared group identity that can be reasonably traced between these Native American human remains and the Tonkawa Tribe of Indians of Oklahoma.

This notice has been sent to officials of the Tonkawa Tribe of Indians of Oklahoma. Representatives of any other Indian tribe that believes itself to be culturally affiliated with these human remains should contact Lenore Barbian, Ph.D., Assistant Curator, Anatomical Collections, National Museum of Health and Medicine, Armed Forces Institute of Pathology, Walter Reed Army Medical Center, Building 54, Washington, DC 20306-6000, telephone (202) 782-2203, before June 4, 2001. Repatriation of the human remains to the Tonkawa Tribe of Indians of Oklahoma may begin after that date if no additional claimants come forward.

Dated: April 11, 2001.
John Robbins,
Assistant Director, Cultural Resources Stewardship and Partnerships.

[FR Doc. 01-11136 Filed 5-2-01; 8:45 am]

BILLING CODE 4310-70-F